DEPARTMENT OF COMMERCE

International Trade Administration

[A-570-937]

Citric Acid and Certain Citrate Salts From the People's Republic of China: Extension of Time Limit for the Preliminary Results of the Antidumping Duty Administrative Review

AGENCY: Import Administration, International Trade Administration, Department of Commerce.

DATES: Effective Date: April 16, 2012.

FOR FURTHER INFORMATION CONTACT: Krisha Hill or Maisha Cryor, AD/CVD Operations, Office 4, Import Administration, International Trade Administration, U.S. Department of Commerce, 14th Street and Constitution Avenue NW., Washington, DC 20230; telephone: (202) 482-4037 or (202) 482-5831, respectively.

SUPPLEMENTARY INFORMATION:

Background

On June 28, 2011, the Department of Commerce (“the Department”) published the initiation of the administrative review of the antidumping duty order on citric acid and certain citrate salts (“citric acid”) from the People's Republic of China (“PRC”).¹ On January 10, 2012, the Department published the extension of time limit for the preliminary results of the administrative review.² This review covers the period May 1, 2010, through April 30, 2011. The preliminary results of review are currently due no later than April 30, 2012.

¹ See Initiation of Antidumping and Countervailing Duty Administrative Reviews and Request for Revocation in Part, 76 FR 37781, 37785 (June 28, 2011).

² See Citric Acid and Certain Citrate Salts From the People's Republic of China: Extension of Time Limit for the Preliminary Results of the Antidumping Duty Administrative Review, 77 FR 1455 (January 10, 2012).

Extension of Time Limit for Preliminary Results of Review

Pursuant to section 751(a)(3)(A) of the Tariff Act of 1930, as amended (“the Act”), the Department shall make a preliminary determination in an administrative review of an antidumping duty order within 245 days after the last day of the anniversary month of the date of publication of the order. The Act further provides, however, that the Department may extend that 245-day period to 365 days if it determines it is not practicable to complete the review within the foregoing time period.

The Department finds that it is not practicable to complete the preliminary results of the administrative review of citric acid from the PRC within this time limit. Specifically, additional time is needed to evaluate relevant evidence and parties' comments regarding the selection of appropriate surrogate values with which to value the factors of production. Therefore, in accordance with section 751(a)(3)(A) of the Act, the Department is fully extending the time period for completion of the preliminary results of this review by an additional 30 days. The preliminary results will now be due no later than May 30, 2012.

This notice is published in accordance with sections 751(a)(3)(A) and 777(i) of the Act.

Dated: April 9, 2012.
Christian Marsh,
Deputy Assistant Secretary for Antidumping and Countervailing Duty Operations.

[FR Doc. 2012-9054 Filed 4-13-12; 8:45 am]

BILLING CODE 3510-DS-P